DEPARTMENT OF TRANSPORTATION

Federal Aviation Administration

14 CFR Part 39

[Docket No. 2000-NM-198-AD; Amendment 39-12747; AD 2002-10-01]

RIN 2120-AA64

Airworthiness Directives; McDonnell Douglas Model MD-90-30 Airplanes

AGENCY: Federal Aviation Administration, DOT.

ACTION: Final rule.

SUMMARY: This amendment adopts a new airworthiness directive (AD), applicable to certain McDonnell Douglas Model MD-90-30 airplanes, that requires modification of the main battery ground stud and installation of a nameplate which indicates torque requirements for the ground stud nut. The actions specified by this AD are intended to prevent the ground stud nut from being inadequately tightened or becoming loose, which could result in electrical arcing between the ground stud and the adjacent structure, leading to damage to electrical or electronic equipment or possibly to fire in the airplane.

DATES: Effective June 20, 2002.

The incorporation by reference of certain publications listed in the regulations is approved by the Director of the Federal Register as of June 20, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: A proposal to amend part 39 of the Federal Aviation Regulations (14 CFR part 39) to include an airworthiness directive (AD) that is applicable to certain McDonnell Douglas Model MD-90-30 series airplanes was published in the Federal Register on January 4, 2002 (67 FR 542). That action proposed to require modification of the main battery ground stud and installation of a nameplate which indicates torque requirements for the ground stud nut.

Comments

Interested persons have been afforded an opportunity to participate in the making of this amendment. Due consideration has been given to the comments received.

Request for Clarification of Compliance Time in Paragraph (b)

Two commenters request clarification regarding the compliance time to accomplish paragraph (b) of this AD, if the modification required by paragraph (a) of this AD has been accomplished in accordance with McDonnell Douglas Service Bulletin MD90-24-004, original issue, dated February 26, 1996, prior to the effective date of the AD.

The FAA concurs with the need for such clarification and accordingly has changed the language of this AD to specify that, if paragraph (a) of this AD has been accomplished prior to the effective date of this AD, then paragraph (b) of this AD must be accomplished within 6 months after the effective date of this AD.

Explanation of Change to Applicability in Proposed AD

The FAA has changed the applicability of this final rule to clarify model designations as published in the most recent type certificate data sheet for the affected airplanes. Specifically, the proposed AD referred to “McDonnell Douglas Model MD-90-30 series airplanes,” but this final rule refers to “McDonnell Douglas Model MD-90-30 airplanes.”

Conclusion

After careful review of the available data, including the comments noted above, the FAA has determined that air safety and the public interest require the adoption of the rule with the changes previously described. The FAA has determined that these changes will neither increase the economic burden on any operator nor increase the scope of the AD.

Cost Impact

There are approximately 18 Model MD-90-30 airplanes of the affected design in the worldwide fleet. The FAA estimates that 14 airplanes of U.S. registry will be affected by this AD, that it will take approximately 1 work hour per airplane to accomplish the actions required by paragraphs (a) and (b) of this AD, and that the average labor rate is $60 per work hour. Required parts will be provided by the manufacturer at no cost. Based on these figures, the cost impact of the AD on U.S. operators is estimated to be $840, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-10-01 McDonnell Douglas: Amendment 39-12747. Docket 2000-NM-198-AD.

Applicability: Model MD-90-30 airplanes, as listed in McDonnell Douglas Alert Service Bulletin MD90-24A004, Revision 01, dated January 11, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the ground stud nut from being inadequately tightened or becoming loose, which could result in electrical arcing between the ground stud and the adjacent structure, leading to damage to electrical or electronic equipment or possibly to fire in the airplane, accomplish the following:

Modification

(a) Within 6 months after the effective date of this AD: Reverse the main battery ground stud and install a nameplate which indicates torque requirements for the ground stud nut, in accordance with McDonnell Douglas Alert Service Bulletin MD90-24A004, Revision 01, dated January 11, 2000.

Note 2: Accomplishment of the reversal of the ground stud installation and installation of the nameplate prior to the effective date of this AD, in accordance with McDonnell Douglas Service Bulletin MD90-24-004, dated February 26, 1996, is acceptable for compliance with the requirements of paragraph (a) of this AD.

Inspection

(b) Conduct a visual inspection of the electrical bonding of the ground stud at the time specified in paragraph (b)(1) or (b)(2) of this AD, as applicable, in accordance with McDonnell Douglas Alert Service Bulletin MD90-24A004, Revision 01, dated January 11, 2000.

(1) If paragraph (a) of this AD was accomplished prior to the effective date of this AD, accomplish paragraph (b) of this AD within 6 months after the effective date of this AD.

(2) If paragraph (a) of this AD was not accomplished prior to the effective date of this AD, accomplish paragraph (b) of this AD after accomplishing paragraph (a) of this AD and prior to further flight.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin MD90-24A004, Revision 01, dated January 11, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on June 20, 2002.

Issued in Renton, Washington, on May 7, 2002.
Kalene C. Yanamura,
Acting Manager, Transport Airplane Directorate, Aircraft Certification Service.

[FR Doc. 02-12066 Filed 5-15-02; 8:45 am]

BILLING CODE 4910-13-P